DEPARTMENT OF THE TREASURY

Internal Revenue Service

26 CFR Part 1

[TD 9999]

RIN 1545-BQ90

Statutory Disallowance of Deductions for Certain Qualified Conservation Contributions Made by Partnerships and S Corporations; Correction

AGENCY: Internal Revenue Service (IRS), Treasury.

ACTION: Final rule; correction and correcting amendments.

SUMMARY: This document contains corrections to Treasury Decision 9999, which was published in the Federal Register on Friday, June 28, 2024. The document issued final regulations concerning the statutory disallowance rule enacted by the SECURE 2.0 Act of 2022 to disallow a Federal income tax deduction for a qualified conservation contribution made by a partnership or an S corporation after December 29, 2022, if the amount of the contribution exceeds 2.5 times the sum of each partner's or S corporation shareholder's relevant basis.

DATES: These corrections are effective on August 30, 2024. For dates of applicability see §§ 1.170A-14(o)(1), 1.170A-16(g)(2), 1.706-3(e), and 1.706-4(e)(2)(xiii) and (e)(3)(ii).

FOR FURTHER INFORMATION CONTACT: Concerning these final regulations under §§ 1.170A-14, 1.706-3, and 1.706-4, contact John Hanebuth or Benjamin Weaver at (202) 317-6850 (not a toll-free number); concerning the final regulations under § 1.170A-16 and issues regarding section 170 of the Internal Revenue Code (Code) other than section 170(h)(7), contact Elizabeth Boone at (202) 317-5100 or Hannah Kim at (202) 317-7003 (not toll-free numbers).

SUPPLEMENTARY INFORMATION:

Background

The final regulations (TD 9999) that are the subject of this correction are under sections 170 and 706 of the Code.

Corrections to Publication

Accordingly, FR Doc. 2024-13844 (TD 9999) appearing on page 54284 in the Federal Register on Friday, June 28, 2024, is corrected to read:

1. On page 54288, in the third column, in the sixth line of footnote 2, the language “determining relative basis” is corrected to read “determining relevant basis”.

2. On page 54298, in the third column, the fifth line of the first full paragraph is corrected to read “extremely limited and that ninety”.

3. On page 54309, in the first column, in the fourth line from the bottom of the first partial paragraph the language “1.170A-14(n)” is corrected to read “1.170A-14(n)(4)”.

List of Subjects in 26 CFR Part 1

Income taxes, Reporting and recordkeeping requirements.

Corrections to the Regulations

Accordingly, 26 CFR part 1 is corrected by making the following correcting amendments:

PART 1—INCOME TAXES

Paragraph 1. The authority citation for part 1 continues to read in part as follows:

Authority: 26 U.S.C. 7805 * * *

§ 1.170A-14 [Corrected]

Par. 2. Section 1.170A-14 is amended by:

1. Removing “$12.50” in the first sentence of paragraph (m)(7)(ii)(E) and adding “$12.50X” in its place;

2. Removing “$19” in the eleventh sentence of paragraph (m)(7)(iii)(A) and adding “$19X” in its place;

3. Removing “$26.80 ($26.80” in paragraph (m)(7)(iii)(I) and adding “$26.80X ($26.80X” in its place;

4. Removing “$1,000” in paragraph (m)(7)(v)(A) and adding “$1,000X” in its place;

5. Removing “$1,000” in paragraph (m)(7)(v)(C)(2) and adding “$1,000X” in its place;

6. Removing the language “$1,000 portion LossProp's adjusted basis that does not exceed LossProp's $1,000X value, plus all of the $1,000” in paragraph (m)(7)(v)(D)(2) and adding the language “$1,000X portion of LossProp's adjusted basis that does not exceed LossProp's $1,000X value, plus all of the $1,000X” in its place; and

7. Removing the word “requirement” in the third sentence of paragraph (n)(2)(v)(B)(2) and adding the word “requirements” in its place.

Par 3. Section 1.170A-16 is amended by revising paragraph (f)(6)(ii)(B)(1) to read as follows:

§ 1.170A-16 Substantiation and reporting requirements for noncash charitable contributions.

* * * * *

(f) * * *

(6) * * *

(ii) * * *

(B) * * *

(1) Made by a contributing partnership (as defined in § 1.170A-14(j)(3)(iii)) or contributing S corporation (as defined in § 1.170A-14(j)(3)(iv)); or

* * * * *

Oluwafunmilayo A. Taylor,
Section Chief, Publications & Regulations Section, Associate Chief Counsel, (Procedure and Administration).

[FR Doc. 2024-18925 Filed 8-29-24; 8:45 am]

BILLING CODE 4830-01-P